DEPARTMENT OF ENERGY

Federal Energy Regulatory Commission

[Docket No. EL13-48-000]

Delaware Division of the Public Advocate, Delaware Municipal Electric Corporation, Inc., Delaware Public Service Commission, Maryland Office of People's Counsel, Maryland Public Service Commission, New Jersey Board of Public Utilities, New Jersey Division of Rate Counsel, Office of the People's Counsel of the District of Columbia, Public Service Commission of the District of Columbia v. Baltimore Gas and Electric Company, Pepco Holdings, Inc., Potomac Electric Power Company, Delmarva Power & Light Company, Atlantic City Electric Company;

Notice of Complaint

Take notice that on February 27, 2013, pursuant to Rules 206 of the Rules of Practice and Procedure of the Federal Energy Regulatory Commission (Commission), 18 CFR 385.206 (2013) and section 206 of the Federal Power Act, 16 U.S.C. 824(e), Delaware Division of the Public Advocate, Delaware Municipal Electric Corporation, Inc., Delaware Public Service Commission, Maryland Office of People's Counsel, Maryland Public Service Commission, New Jersey Board of Public Utilities, New Jersey Division of Rate Counsel, Office of the People's Counsel of the District of Columbia, and Public Service Commission of the District of Columbia (collectively, Complainants) filed a formal complaint against Baltimore Gas and Electric Company (BGE), Pepco Holdings, Inc. (PHI), and affiliates; Potomac Electric Power Company, Delmarva Power & Light Company, and Atlantic City Electric Company (Respondents), seeking a Commission order to reduce the base return equity used in BGE's and PHI Companies' formula transmission rates to 8.7 percent and directing the Respondents to submit compliance filings to implement the changes to the formula transmission rate implementation protocols, as more fully described in the complaint.

The Complainants certify that copies of the complaint were served on the contacts for the Respondents as listed on the Commission's list of Corporate Officials and on parties the Complainants reasonably expect to be affected by this Complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 19, 2013.

Dated: February 28, 2013.
Kimberly D. Bose,
Secretary.

[FR Doc. 2013-05258 Filed 3-6-13; 8:45 am]

BILLING CODE 6717-01-P